DEPARTMENT OF HOMELAND SECURITY

Coast Guard

46 CFR Part 170

[USCG-2007-0030]

RIN 1625-AB20

Passenger Weight and Inspected Vessel Stability Requirements; Correction

AGENCY: Coast Guard, DHS.

ACTION: Correcting Amendment.

SUMMARY: The Coast Guard is correcting a final rule that appeared in the Federal Register on December 14, 2010. That rule amended Coast Guard regulations governing the maximum weight and number of passengers that may safely be permitted on board a vessel and other stability regulations, including increasing the Assumed Average Weight per Person (AAWPP) to 185 lb. The rule also improved and updated intact stability and subdivision and damage stability regulations.

DATES: These changes are effective April 25, 2011.

FOR FURTHER INFORMATION CONTACT: If you have questions on this amendment, contact Mr. William Peters, U.S. Coast Guard, Office of Design and Engineering Standards, Naval Architecture Division (CG-5212), telephone 202-372-1371. If you have questions on viewing the docket, call Renee V. Wright, Program Manager, Docket Operations, telephone 202-366-9826.

SUPPLEMENTARY INFORMATION:

Background and Purpose

The Coast Guard is correcting a final rule that appeared in the Federal Register on December 14, 2010 (75 FR 78064). That rule, among other things, added new definitions of “Assumed average weight per person”, “Constructed”, and “Lightweight” to 46 CFR 170.055. The definition of “Length” in that section was left unchanged except that it was redesignated to a different paragraph. Due to a clerical error, however, the amendatory instructions in the rule would result in two redundant definitions of “Lightweight” and the elimination of a definition of “Length” in § 170.055. This correction remedies that error by removing the second occurrence of a definition of “Lightweight” and restoring the definition of “Length” in that section. This correction also revises an incorrect internet address in 46 CFR 170.090(g).

List of Subjects in 46 CFR Part 170

Marine safety, Reporting and recordkeeping requirements, Vessels.

For the reasons discussed in the preamble, 46 CFR part 170 is corrected by making the following correcting amendments:

PART 170—STABILITY REQUIREMENTS FOR ALL INSPECTED VESSELS

1. The authority citation for part 170 continues to read as follows:

Authority: 43 U.S.C. 1333; 46 U.S.C. 2103, 3306, 3703; E.O. 12234, 45 FR 58801, 3 CFR, 1980 Comp., p. 277; Department of Homeland Security Delegation No. 0170.1.

2. In § 170.055, revise paragraphs (k) and (l) to read as follows:

§ 170.055 Definitions concerning a vessel.

* * * * *

(k) Length means the distance between fore and aft points on a vessel. The following specific terms are used and correspond to specific fore and aft points:

(1) Length between perpendiculars (LBP) means the horizontal distance measured between perpendiculars taken at the forward-most and after-most points on the waterline corresponding to the deepest operating draft. For a small passenger vessel that has underwater projections extending forward of the forward-most point or aft of the after-most point on the deepest waterline of the vessel, the Commanding Officer, U.S. Coast Guard Marine Safety Center, may include the length or a portion of the length of the underwater projections in the value used for the LBP for the purposes of this subchapter. The length or a portion of the length of projections that contribute more than 2 percent of the underwater volume of the vessel is normally added to the actual LBP.

(2) Length overall (LOA) means the horizontal distance between the forward-most and after-most points on the hull.

(3) Length on the waterline (LWL) means the horizontal distance between the forward-most and after-most points on a vessel's waterline.

(4) Length on deck (LOD) means the length between the forward-most and after-most points on a specified deck measured along the deck, excluding sheer.

(5) Load line length (LLL) has the same meaning that is provided for the term length in § 42.13-15(a) of this chapter.

(6) Mean length is the average of the length between perpendiculars (LBP) and the length on deck (LOD).

(l) Lightweight means the displacement of a vessel with fixed ballast and with machinery liquids at operating levels but without any cargo, stores, consumable liquids, water ballast, or persons and their effects.

* * * * *

§ 170.090 [Amended]

3. In § 171.090(g), remove “http://www.uscg.mil/hq/cg5/cg5212.asp” and add, in its place, “http://www.uscg.mil/hq/cg5/cg5212”.

Dated: March 21, 2011.
Kathryn A. Sinniger,
Chief, Office of Regulations and Administrative Law, United States Coast Guard.

[FR Doc. 2011-7048 Filed 3-24-11; 8:45 am]

BILLING CODE P